DELAWARE RIVER BASIN COMMISSION

18 CFR Part 420

Schedule of Water Charges

AGENCY: Delaware River Basin Commission.

ACTION: Final rule.

SUMMARY: By Resolution No. 2010-9 on September 15, 2010, the Delaware River Basin Commission (DRBC or “Commission”) approved amendments to its Administrative Manual, Part III, Basin Regulations—Water Supply Charges. Accordingly, the Commission's water charging rates for consumptive use and non-consumptive use, as codified, are hereby amended.

DATES: Applicability date: This rule is applicable beginning January 1, 2011, to first quarter 2011 payments due by April 30, 2011. Effective Date: February 24, 2011.

FOR FURTHER INFORMATION CONTACT: For questions about the water charging program, please contact Ms. Amy Shallcross at 609-477-7201.

SUPPLEMENTARY INFORMATION: The Delaware River Basin Commission is a state and federal compact agency charged with managing the water resources of the Delaware River Basin without regard to political boundaries. Its members are the governors of the four basin states—Delaware, New Jersey, New York, and Pennsylvania—and the North Atlantic Division Commander of the U.S. Army Corps of Engineers, representing the President of the United States and all Federal agencies.

In order to fund certain water supply storage facility projects in the Basin, the Commission between 1964 and 1974 established a system of water supply charges consistent with section 3.7 of the Delaware River Basin Compact. DRBC Resolution No. 71-4 established a schedule of rates for water withdrawals and provided that “the charges for water supplied will include all costs associated with making basin water supply available and maintaining its continued availability in adequate quantity and quality over time.” Res. No. 71-4, Apr. 7, 1971, par. A.2. Revenues from the sale of water in accordance with the rule are placed in a “Water Supply Storage Facilities Fund,” from which payments are made to meet the annual cost of the Commission's water storage projects—including “debt service, operation, maintenance, replacement, reserves and associated administrative costs.” Id., par. A.2.b. The schedule of water charges in effect from 1978 through 2010 was established by Resolution No. 78-14 in October of 1978, based on the unit cost of water storage owned by the Commission in the Federal government's Beltzville and Blue Marsh reservoirs. The rates established in 1978—$60 per million gallons for consumptive use and $.60 per million for non-consumptive use—remained unchanged for over 30 years.

Notice of the proposed amendments appeared in the Federal Register on February 19, 2010 (75 FR 7411), as well as in the Delaware Register of Regulations on March 1, 2010 (13 DE Reg. 1144), the New Jersey Register on March 15, 2010 (42 N.J.R. 667(a)), the New York State Register on March 3, 2010 (p. 5) and the Pennsylvania Bulletin on March 6, 2010 (40 Pa. B. 1201). The February-March 2010 proposal called for a two-stage increase. The consumptive use rate was proposed to increase from $60 to $90 per million gallons, effective January 1, 2011, and from $90 to $120 per million gallons, effective January 1, 2012; and the non-consumptive use rate was proposed to increase from $.60 to $.90 per million gallons, effective January 1, 2011, and from $.90 to $1.20 per million gallons, effective January 1, 2012. A public hearing on the proposed rate increases was held on April 13, 2010 and written comments were accepted through April 16, 2010.

On September 15, 2010, the Commission approved a single-stage increase of $20 per million gallons in the consumptive use rate and $.20 per million gallons in the non-consumptive use rate. Accordingly, effective January 1, 2011, the Commission's water charging rates are $80 per million gallons for consumptive use and $.80 per million gallons for non-consumptive use. No change to the list of uses exempt from charges was proposed or adopted. The Commission also authorized the Executive Director to establish a Water Charges Advisory Committee and to identify and develop proposals for studies to address issues affecting water charges. A comment and response document setting forth the Commission's responses in detail was approved by the Commission simultaneously with adoption of the final rule.

Resolution No. 2010-9, the text of the final rule, and a copy of the comment and response document are available on the Commission's Web site, drbc.net.

List of Subjects in 18 CFR Part 420

Incorporation by reference, Water resources, Water reservoirs, Water supply, Watersheds.

For the reasons set forth in the preamble, the Delaware River Basin Commission amends 18 CFR part 420 as follows:

PART 420—BASIN REGULATIONS—WATER SUPPLY CHARGES

1. The authority citation for part 420 continues to read as follows:

Authority: Delaware River Basin Compact, 75 Stat. 688.

2. Amend § 420.41 by revising paragraphs (a) and (b) to read as follows:

§ 420.41 Schedule of water charges.

* * * * *

(a) $80 per million gallons for consumptive use; and

(b) $.80 per million gallons for nonconsumptive use.

Dated: February 16, 2011.
Pamela M. Bush,
Commission Secretary and Assistant General Counsel.

[FR Doc. 2011-3969 Filed 2-23-11; 8:45 am]

BILLING CODE 6360-01-P